DEPARTMENT OF DEFENSE

Office of the Secretary

[Docket ID DOD-2011-OS-0068]

Privacy Act of 1974; Systems of Records

AGENCY: Defense Logistics Agency, DoD.

ACTION: Notice; correction.

SUMMARY: On Friday, June 24, 2011 (76 FR 37082-37084), the Department of Defense published a notice to amend a system of records. On page 37083, in the second column, in the line preceding the SYSTEM NAME heading, the System of Records Notice (SORN) identification number “S190.19” should read “S190.10”.

Dated: June 24, 2011.
Aaron Siegel,
Alternate OSD Federal Register Liaison Officer, Department of Defense.

[FR Doc. 2011-16309 Filed 6-28-11; 8:45 am]

BILLING CODE 5001-06-P